DEPARTMENT OF AGRICULTURE

Forest Service

Notice of Proposed Administrative Settlement Agreement and Order on Consent for the Mill City Cabin Area of the Mammoth Stamp Mill Site, Inyo National Forest, Mono County, California

AGENCY: Forest Service, Agriculture (USDA).

ACTION: Notice of settlement; request for comment.

SUMMARY: In accordance with the Comprehensive Environmental Response, Compensation, and Liability Act of 1980, as amended (CERCLA), notice is hereby given of a proposed Administrative Settlement Agreement and Order on Consent (ASAOC), between the Forest Service, United States Department of Agriculture, and specific Cabin Permittees (Respondents), regarding Respondents' access under special use permits (SUPs) to the Mill City Cabin Area (Affected Property) of the Mammoth Stamp Mill Site (Site) located on the Inyo National Forest, Mono County, California. Hazardous substances and/or pollutants or contaminants have come to be located at the Site.

DATES: Comments must be received in writing by July 8, 2022.

ADDRESSES: The proposed settlement and additional background information relating to the settlement are available for public inspection at the offices of the United States Department of Agriculture, Forest Service, Inyo National Forest, 351 Pacu Lane, Bishop, California 93514, or from Ronald McClain with USDA's Office of the General Counsel, email: Ronald.mcclain@usda.gov, phone: (202) 720-4500. Comments should reference the Mammoth Mill City Cabin Area, Inyo National Forest, Mono County, California, and should be addressed to Ronald McClain, USDA Office of the General Counsel, 1400 Independence Ave. SW, Washington, DC 20250-1412. The United States' response to any comments received will be available for public inspection at the USDA, Office of the General Counsel, 1400 Independence Ave. SW, Washington, DC 20250-1412, and at the Forest Service's Inyo National Forest, 351 Pacu Lane, Bishop, California 93514.

FOR FURTHER INFORMATION CONTACT:

Technical information: Noelle Graham-Wakoski, USDA Forest Service Pacific Southwest Region, c/o Cleveland National Forest, 10845 Rancho Bernardo Road, Ste. 200, San Diego, CA 92127-2107; phone: 858-735-7728, email: noelle.graham@usda.gov.

Legal information: Ronald McClain, USDA Office of the General Counsel, 1400 Independence Ave. SW, Washington, DC 20250-1412; phone (202) 720-4500, Fax: (202) 720-0973; email: Ronald.mcclain@usda.gov. Individuals who use telecommunications devices for the deaf or hard of hearing (TDD) may call the Federal Relay Service (FRS) at 800-877-8339 24 hours a day, every day of the year, including holidays.

SUPPLEMENTARY INFORMATION: The proposed ASAOC between the Forest Service, the Department of Justice, and Respondents, is entered into in accordance with Section 122(g)(4) of CERCLA, as amended, 42 U.S.C. 9622(g)(4). Among other things, the ASAOC requires Respondents to voluntarily relinquish their respective SUPs to the Forest Service to resolve Respondents' potential civil liability under Section 107 of CERCLA, 42 U.S.C. 9607. The ASAOC further requires Respondents to release the United States from any collateral action which may be brought by Respondents as a result of the voluntary relinquishment of their SUPs. The Forest Service will provide full and complete contribution protection for Respondents with regard to the Site pursuant to Sections 113(f)(2) and 122(g)(5) of CERCLA, 42 U.S.C. 9613(f)(2) and 9622(g)(5), or as otherwise may be provided by law, in accordance with Section XIV of the ASAOC (Effect of Settlement/Contribution); and will release Respondents from obligations of their SUPs requiring removal of improvements upon the Affected Property.

For thirty (30) days following the date of publication of this notice, the United States will receive written comments relating to the ASAOC. The United States will consider all comments received and may modify or withdraw its consent to the ASAOC if comments received disclose facts or considerations that indicate that the settlement is inappropriate, improper, or inadequate.

Dated: June 3, 2022.
Jennifer Eberlien,
Regional Forester, Pacific Southwest Region.

[FR Doc. 2022-12362 Filed 6-7-22; 8:45 am]

BILLING CODE 3411-15-P